DEPARTMENT OF COMMERCE

National Oceanic and Atmospheric Administration

RIN: 0648-XG48

Fisheries of the South Atlantic; Southeastern Data, Assessment, and Review (SEDAR); Public Meetings.

AGENCY: National Marine Fisheries Service (NMFS), National Oceanic and Atmospheric Administration (NOAA), Commerce.

ACTION: Notice of SEDAR Workshops for South Atlantic Spanish mackerel and vermilion snapper.

SUMMARY: The SEDAR assessments of the South Atlantic stocks of Spanish mackerel and vermilion snapper will consist of a series of three workshops: a Data Workshop, an Assessment Workshop, and a Review Workshop. This is the seventeenth SEDAR. See SUPPLEMENTARY INFORMATION.

DATES: The Data Workshop will take place May 19-23, 2008; the Assessment Workshop will take place August 25-29, 2008; the Review Workshop will take place October 20-24, 2008. See SUPPLEMENTARY INFORMATION.

ADDRESSES: The Data Workshop will be held at the Doubletree Guest Suites - Charleston Historic District, 181 Church Street, Charleston, SC 29401; telephone: (843) 577-2644. The Assessment Workshop will be held at the Center for Coastal Fisheries and Habitat Research Beaufort Laboratory, 101 Piver's Island Road, Beaufort, NC 28516; telephone: (252) 728-3595. The Review Workshop will be held at the Hampton Inn and Suites, Savannah Historic District, 201 Martin Luther King Boulevard, Savannah, GA 31401; telephone: (912) 721-1600.

Council address: South Atlantic Fishery Management Council, 4055 Faber Place Drive, Suite 201, North Charleston, SC 29405.

FOR FURTHER INFORMATION CONTACT: Dale Theiling, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 17 Workshop Schedule:

May 19-23, 2008; SEDAR 17 Data Workshop

May 19, 2008: 1 p.m. - 8 p.m.; May 20-22, 2008: 8 a.m. - 8 p.m.; May 23, 2008: 8 a.m. - 1 p.m.

An assessment data set and associated documentation will be developed during the Data Workshop. Participants will evaluate all available data and select appropriate sources for providing information on life history characteristics, catch statistics, discard estimates, length and age composition, and fishery dependent and fishery independent measures of stock abundance.

August 25-29, 2008; SEDAR 17 Assessment Workshop

August 25, 2008: 1 p.m. - 8 p.m.; August 26-28, 2008: 8 a.m. - 8 p.m.; August 29, 2008: 8 a.m. - 1 p.m.

Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

October 20-24, 2008; SEDAR 17 Review Workshop

October 20, 2008: 1 p.m. - 8 p.m.; October 21-23, 2008: 8 a.m. - 8 p.m.; October 24, 2008: 8 a.m. - 1 p.m.

The Review Workshop is an independent peer review of the assessment developed during the Data and Assessment Workshops. Workshop Panelists will review the assessment and document their comments and recommendations in a Consensus Summary.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to each workshop.

Dated: April 1, 2008.
Tracey L. Thompson,
Acting Director, Office of Sustainable Fisheries, National Marine Fisheries Service.

[FR Doc. E8-6980 Filed 4-3-08; 8:45 am]

BILLING CODE 3510-22-S